FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants:

Transmodal Logistics International Inc., 5520 Minoru Blvd., Suite 202, Richmond, British Columbia, Canada V6X 249.

Officers: Sanjeev Bhalla, Vice President (Qualifying Individual), Dave B. Tangry, President.

ILS Cargo Corp. dba Container Line, 7517-21 NW 52 Street, Miami, FL 33166.

Officers: Placido Sanchez, President (Qualifying Individual), Rafael Mosquera, Vice President.

Non-Vessel-Operating Common Carrier and Ocean Freight Forwarder Transportation Intermediary Applicants:

Cedars Express International, Inc., 8415 Beckford Avenue, Northridge, CA 91324.

Officers: Manal Fouad Guirguis, Vice President (Qualifying Individual), George N. Salloum, President.

Ferrara International Worldwide Inc., 640 Dowd Avenue, Elizabeth, NJ 07201.

Officers: Suzanne Simonetti, Vice President (Qualifying Individual), Nicholas Ferrara, President.

Ocean Freight Forwarder—Ocean Transportation Intermediary Applicants:

Mayfak International, LLC, 1231 NW 93 Ct., Doral, FL 33172.

Officer: Mario Osorio, President (Qualifying Individual).

International Logistics Solutions, Inc., 58 South Burty Road, Piedmont, SC 29673.

Officers: Gavin Berkowitz, Vice President (Qualifying Individual), Chris Apple, President.

Dated: December 8, 2006.
Bryant L. VanBrakle,
Secretary.

[FR Doc. E6-21177 Filed 12-12-06; 8:45 am]

BILLING CODE 6730-01-P